DEPARTMENT OF ENERGY

Federal Energy Regulatory Commission

[Docket No. RP04-136-001]

Iroquois Gas Transmission System, L.P.; Notice of Compliance Filing

February 9, 2004.

Take notice that on February 4, 2004, Iroquois Gas Transmission System, L.P. (Iroquois) tendered for filing as part of its FERC Gas Tariff, First Revised Volume No. 1, Thirtieth Revised Sheet No. 4, proposed to become effective on February 5, 2004.

Iroquois states that in the January 30 Order in this proceeding, the Commission required Iroquois to submit a revised tariff sheet which reflects that the initial rate for service on the Eastchester system is the currently effective Part 284 rate of $0.4234 per Dth (100% load factor). Iroquois further states that because Sheet No. 4C, relating to service to Eastchester Shippers, has been suspended until July 1, 2004, Iroquois is submitting a Thirtieth Revised Sheet No. 4 setting forth the initial rate for service to Eastchester Shippers.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-286 Filed 2-13-04; 8:45 am]

BILLING CODE 6717-01-P